Title 3—

The President

Memorandum of March 18, 2016

Delegation of Authority Pursuant to Section 704 of the Consolidated Appropriations Act, 2016

Memorandum for the Director of the National Counterterrorism Center

By the authority vested in me as President by the Constitution and the laws of the United States of America, including section 301 of title 3, United States Code, I hereby delegate the functions and authorities vested in the President by section 704 of the Consolidated Appropriations Act, 2016 (Public Law 114-113), to the Director of the National Counterterrorism Center.

You are authorized and directed to publish this memorandum in the Federal Register.

THE WHITE HOUSE,

Washington, March 18, 2016

[FR Doc. 2016-06714

3-22-16; 8:45 am]

Billing code 3910-A7-P